FEDERAL COMMUNICATIONS COMMISSION

Notice of Public Information Collection(s) Being Reviewed by the Federal Communications Commission, Comments Requested

March 19, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before June 1, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION:

OMB Control Number: 3060-0291.

Title: Sections 90.477(a), (b)(2), and (d)(2), Interconnected Systems.

Form No.: FCC Form 601.

Type of Review: Revision of a currently approved collection.

Respondents: Business or other for profit, not-for-profit institutions, and state, local or tribal government.

Number of Respondents: 12,509.

Estimated Time per Response: .25 hours for 12,405 responses and 2 hrs. for 104 responses.

Frequency of Response: On occasion reporting requirement, third party disclosure requirement, and recordkeeping requirement.

Total Annual Burden: 3,309 hours.

Total Annual Cost: N/A.

Needs and Uses: This rule section allows commercial and private land mobile radio licensees to use common point telephone interconnection with telephone service costs distributed on a non-profit cost sharing basis. Records of such arrangements must be placed in the licensee's station file and made available to participants in the sharing arrangement and the Commission upon request.

OMB Control Number: 3060-0949.

Title: Wireless, Cellular and Mobile Service Provider Worksheet.

Form No.: FCC Form 159-W.

Type of Review: Revision of a currently approved collection.

Respondents: Individuals or households, business or other for-profit, not-for-profit institutions, and state, local or tribal government.

Number of Respondents: 4,150.

Estimated Time per Response: .25 hours.

Frequency of Response: On occasion and annual reporting requirements.

Total Annual Burden: 1,038 hours.

Total Annual Cost: N/A.

Needs and Uses: Section 9 of the Communications Act of 1934, as amended, authorized the FCC to assess and collect annual regulatory fees to recover costs incurred in carrying out its enforcement, policy and rulemaking activities and its user information services. Common carrier licensees and permittees who provide interstate telephone operator services must pay those fees. These regulatory fees are based upon a percentage of the carrier's interstate revenues. The information is necessary to determine how much each carrier's interstate revenues are available to the carrier by extraction from another OMB collection, Telecommunications Reporting Worksheet, FCC Form 499-A (OMB Control Number 3060-0855). The requested FCC Form 159-W is intended to provide a convenient format for documenting the extracted interstate revenue information (which is already populated on the form) and complete/verify the simple calculation of the fee amount due. The information will be used by the Commission to determine if a party has properly calculated the amount if it's regulatory fee due. The Commission is revising this information collection to expand the scope of respondents, i.e., wireless, cellular and mobile service providers. Only the necessary fee information will be populated on the FCC 159-W as it pertains to the particular service provider. The service providers will be requested to verify the data or correct it.

OMB Control Number: 3060-0972.

Title: Multi-Association Group (MAG) Plan for Regulation of Interstate Services of Non-Price Cap Incumbent Local Exchange Carriers and Interexchange Carriers.

Form Nos.: FCC Forms 507, 508 and 509.

Type of Review: Revision of a currently approved collection.

Respondents: Business or other for-profit and not-for-profit institutions.

Number of Respondents: 1,300 respondents, 7,071 responses.

Estimated Time per Response: 1-6 hours.

Frequency of Response: Annual reporting requirement and third party disclosure reporting requirement.

Total Annual Burden: 30,659 hours.

Total Annual Cost: $45,000.

Needs and Uses: The Commission modified the reporting requirements associated with the Interstate Common Line Support mechanism in order to reduce the burdens associated with the requirements and increase the accuracy of data reported. The Commission will use the information collected to determine whether and to what extent non-price cap or rate-of-return carriers providing the data are eligible to receive universal service support. The Commission will use the tariff data to make sure that rates are just and reasonable, as required by section 201(b) of the Act.

OMB Control Number: 3060-0978.

Title: Compatibility with E911 Emergency Calling Systems, Fourth Report and Order.

Form No.: N/A.

Type of Review: Extension of currently approved collection.

Respondents: Business or other for-profit.

Number of Respondents: 4,000 respondents, 16,000 responses.

Estimated Time per Response: 2 hours.

Frequency of Response: Quarterly reporting requirement.

Total Annual Burden: 32,000 hours.

Total Annual Cost: N/A.

Needs and Uses: This collection of information is needed to ensure persons with hearing and speech disabilities using text telephone (TTY) devices will be able to make 911 emergency calls over digital wireless systems. The Commission will use the information in the quarterly TTY reports to keep track of the carriers' progress in complying with E911 TTY requirements and also to monitor the progress technology is making towards compatibility with TTY devices.

Federal Communications Commission.
Marlene H. Dortch,
Secretary.

[FR Doc. 04-7375 Filed 3-31-04; 8:45 am]

BILLING CODE 6712-01-P